SMALL BUSINESS ADMINISTRATION

[Disaster Declaration #17296 and #17297; ARKANSAS Disaster Number AR-00120]

Presidential Declaration of a Major Disaster for the State of Arkansas

AGENCY: Small Business Administration.

ACTION: Notice.

SUMMARY: This is a Notice of the Presidential declaration of a major disaster for the State of Arkansas (FEMA-4633-DR), dated 12/23/2021.

Incident: Severe Storms and Tornadoes.

Incident Period: 12/10/2021 through 12/11/2021.

DATES: Issued on 12/23/2021.

Physical Loan Application Deadline Date: 02/22/2022.

Economic Injury (EIDL) Loan Application Deadline Date: 09/23/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 12/23/2021, applications for disaster loans may be filed at the address listed above or other locally announced locations. The following areas have been determined to be adversely affected by the disaster:

Primary Counties (Physical Damage and Economic Injury Loans): Craighead, Jackson, Mississippi, Poinsett, Woodruff

Contiguous Counties (Economic Injury Loans Only):

Arkansas: Crittenden, Cross, Greene, Independence, Lawrence, Monroe, Prairie, Saint Francis, White

Missouri: Dunklin, Pemiscot

Tennessee: Dyer, Lauderdale, Tipton

The Interest Rates are:

| Percent
For Physical Damage:
Homeowners with Credit Available Elsewhere | 2.875
Homeowners without Credit Available Elsewhere | 1.438
Businesses with Credit Available Elsewhere | 5.660
Businesses without Credit Available Elsewhere | 2.830
Non-Profit Organizations with Credit Available Elsewhere | 1.875
Non-Profit Organizations without Credit Available Elsewhere | 1.875
For Economic Injury:
Businesses & Small Agricultural Cooperatives without Credit Available Elsewhere | 2.830
Non-Profit Organizations without Credit Available Elsewhere | 1.875

The number assigned to this disaster for physical damage is 17296 C and for economic injury is 17297 0.

(Catalog of Federal Domestic Assistance Number 59008)

Barbara Carson,
Acting Associate Administrator for Disaster Assistance.

[FR Doc. 2022-00510 Filed 1-12-22; 8:45 am]

BILLING CODE 8026-03-P